DEPARTMENT OF TRANSPORTATION

Federal Railroad Administration

Notice of Informational Filing To Test a Processor-Based Signal and Train Control System and a Request for Waiver of Compliance

In accordance with Part 211 of Title 49 of the Code of Federal Regulations (CFR), notice is hereby given that the Federal Railroad Administration (FRA) received a request for a waiver of compliance from certain requirements of its Federal railroad safety regulations. The individual petition is described below, including the party seeking relief, the regulatory provisions involved, the nature of the relief being requested, and the petitioner's arguments in favor of relief.

CSX Transportation, Inc.

(Docket Number FRA-2006-25057)

On June 11, 2007, FRA authorized CSX Transportation, Inc. (CSXT) to conduct limited field testing of its Communications Based Train Management (CBTM) system. CBTM is a non-vital safety-critical overlay designed to supplement the existing method of operation to protect against the consequence of human error. As part of this authorization, FRA granted CSXT temporary conditional relief from certain requirements of the Federal railroad safety regulations, including specific sections of the following Parts of Title 49 of the CFR: 216 (Special notice and emergency order procedures: Railroad track, locomotive and equipment), 217 (Railroad operating rules), 218 (Railroad operating practices), 229 (Railroad locomotive safety standards), 233 (Signal systems reporting requirements), 235 (Instructions governing applications for approval or a discontinuance or material modification of a signal system or relief from the requirements of part 236), 236 (Rules, standards, and instructions governing the installation, inspection, maintenance, and repair of signal and train control systems, devices, and appliances), and 240 (Qualification and certification of locomotive engineers). Details of the exact relief granted are found in FRA's June 11, 2007, letter (document number FRA-2006-25057-0008).

The CBTM test territory authorized was 144.9 miles of CSXT trackage on the Blue Ridge Subdivision of the Huntington Division West, and 128.1 miles of CSXT trackage on two subdivisions, the Spartanburg and McCormick subdivisions of the Florence Division.

In association with the continued development and implementation testing of the CBTM system, by letter dated August 13, 2008, CSXT submitted an amended informational filing and waiver petition seeking to modify the terms of FRA's June 11, 2007, approval. In its August 13, 2008, waiver petition, CSXT asserts that because of increased traffic in the approved test territories, recent signal system upgrades have been completed that limit its ability to properly conduct CBTM fields tests in the previously approved territory. Accordingly, CSXT requests that FRA amend its original approval and waiver to apply to new test territories on the railroad's Aberdeen and Andrews's subdivisions. Specifically, CSXT requests authority to test its CBTM system consistent with the conditions outlined in FRA's June 11, 2007, approval on 86.9 miles of CSXT trackage on the Aberdeen subdivision and 156.6 miles of CSXT trackage on the Andrews subdivision. Both the Aberdeen and Andrews subdivision are part of CSXT's Florence Division.

For information purposes only, FRA is also providing notice that pursuant to 49 CFR 236.913(j), CSXT has submitted an amended informational filing pertaining to enhancements that have been made to the CBTM system. FRA will accept comments on the amended informational filing only as far as that document requires waivers from regulatory requirements.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (FRA-2006-25057) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on March 26, 2009.
Grady C. Cothen, Jr.,
Deputy Associate Administrator for Safety Standards and Program Development.

[FR Doc. E9-7249 Filed 3-31-09; 8:45 am]

BILLING CODE 4910-06-P